DEPARTMENT OF JUSTICE

Notice of Lodging of Proposed Consent Decree Under the Clean Air Act

On December 9, 2024, the Department of Justice lodged a proposed Consent Decree with the United States District Court for the Middle District of Tennessee in the lawsuit entitled United States v. Diesel Performance Parts, Inc., Civil Action No. 3:24-cv-01439.

The proposed Consent Decree settles claims brought by the United States for violations of section 203(a)(3)(B) of the Clean Air Act, 42 U.S.C. 7522(a)(3)(B), arising from Defendant's offers for sale and sale of motor vehicle parts that bypass, defeat, and/or render inoperative the vehicle's installed emission controls, commonly known as “defeat devices.” The Consent Decree resolves these claims and prohibits Defendant and its owner (collectively, “the DPPI Parties”) from: (1) manufacturing, selling, or installing defeat devices; (2) investing in or obtaining revenue from defeat devices, including from other companies or ventures; and (3) providing technical support or honoring warranty claims for defeat device products. In addition, the Consent Decree requires the DPPI Parties to destroy any remaining defeat devices in their inventory or possession, surrender all intellectual property associated with defeat devices to EPA, and report periodically on their compliance with the Consent Decree. It also requires the DPPI Parties to pay a civil penalty of $320,000, based on their limited ability to pay.

The publication of this notice opens a period for public comment on the proposed Consent Decree. Comments should be addressed to the Assistant Attorney General, Environment and Natural Resources Division, and should refer to United States v. Diesel Performance Parts, Inc., D.J. Ref. No. 90-5-2-1-12539. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Scott Bauer,
Assistant Section Chief, Environmental Enforcement Section, Environment and Natural Resources Division.

[FR Doc. 2024-29662 Filed 12-16-24; 8:45 am]

BILLING CODE 4410-15-P